DEPARTMENT OF HOUSING AND URBAN DEVELOPMENT

[Docket No. FR-5873-D-01]

Delegation of Authority to the Chief Operations Officer

AGENCY: Office of the Deputy Secretary, U.S. Department of Housing and Urban Development (HUD).

ACTION: Notice of delegation of authority.

SUMMARY: In this notice, the Deputy Secretary delegates to the Chief Operations Officer all management and supervisory authority for the following offices: The Chief Information Officer (CIO); the Chief Human Capital Officer (CHCO); the Chief Procurement Officer (CPO); and the Chief Administrative Officer (CAO).

DATES: Effective upon date of signature.

FOR FURTHER INFORMATION CONTACT: John B. Shumway, Assistant General Counsel for Administrative Law, Office of General Counsel, Department of Housing and Urban Development, 451 7th Street SW., Room 9262, Washington, DC 20410-0500, telephone number 202-402-5190. (This is not a toll-free number.) Individuals with speech or hearing impairments may access this number through TTY by calling 1-800-877-8339.

SUPPLEMENTARY INFORMATION: Certain management and program functions will now be performed by a Chief Operations Officer (COO). These functions include executive scheduling, security and emergency planning, executive secretariat, Freedom of Information Act processing, budgeting, accounting, hiring and training employees, modernizing information technology systems, information security, protecting privacy, procurement and contracting, and disaster preparedness operations. These functions are performed in the offices of the Chief Human Capital Officer (CHCO), the Chief Information Officer (CIO), the Chief Procurement Officer (CPO), and the Chief Administrative Officer (CAO). The COO has been delegated management and program authority for these offices.

Section A. Authority

The Deputy Secretary of Housing and Urban Development hereby delegates to the Chief Operations Officer the authority to manage and supervise the following offices and functions:

1. Office of the Chief Human Capital Officer: This office is responsible for employee performance management; executive resources; human capital field support; human capital policy, planning and training; recruitment and staffing; personnel security; employee assistance program, health and wellness; employee and labor relations; pay, benefits and retirement center; human capital information systems; and budget.

2. Office of the Chief Information Officer: This office is responsible for modernizing information technology systems, information security, and protecting privacy.

3. Office of the Chief Procurement Officer: This office is responsible for all procurement and contracting activity by the Department.

4. Office of the Chief Administrative Officer: This office is responsible for facilities management services; Executive Secretariat correspondence management, processing of Freedom of Information Act requests, and disaster preparedness operations.

Section B. Authority Excepted

The authority delegated in this document does not include the authority to sue or be sued or to issue or waive regulations.

Section C. Authority to Redelegate

The Chief Operations Officer may redelegate to employees of HUD any of the authority delegated under Section A above.

Section D. Authority Superseded

This delegation revokes all previous delegations of authority from the Secretary or the Deputy Secretary to the Assistant Secretary for Administration or the Chief Operations Officer, including the Delegation of Authority to the Chief Operating Officer published in the Federal Register on June 14, 2011 at 76 FR 34745.

This delegation is effective immediately and until such time as this delegation is revoked. The Deputy Secretary may revoke the authority authorized herein, in whole or part, at any time.

Authority: Section 7(d) of the Department of Housing and Urban Development Act (42 U.S.C. 3535(d)).

Dated: May 4, 2015.
Nani A. Coloretti,
Deputy Secretary.

[FR Doc. 2015-11334 Filed 5-8-15; 8:45 am]

BILLING CODE 4210-67-P